DEPARTMENT OF THE INTERIOR

National Park Service

[NPS-MWR-ISRO-20587; PPMWMWROW3/PPMPSPD1Y.YM0000]

Amended Notice of Intent To Prepare an Environmental Impact Statement To Address the Presence of Wolves at Isle Royale National Park

AGENCY: National Park Service, Interior.

ACTION: Amended Notice of Intent.

SUMMARY: The National Park Service (NPS) is amending its July 10, 2015, Notice of Intent (NOI) to prepare an environmental impact statement (EIS) and Management Plan for Moose, Wolves, and Vegetation for Isle Royale National Park, Michigan (Isle Royale). The NPS is revising the scope of the EIS to focus on the question of whether to bring wolves to Isle Royale in the near term, and if so, how to do so. This amended NOI describes a range of alternatives for bringing wolves to the Island.

Authority: 42 U.S.C. 4321-4347; 40 CFR parts 1500-1508; 43 CFR part 46.

DATES: The public scoping comment period will conclude 30 days following the date this NOI is published in the Federal Register. All comments must be postmarked or transmitted by this date.

ADDRESSES: Information, including a copy of the new public scoping brochure, is available for public review online at http://parkplanning.nps.gov/ISROwolves. Limited copies of the brochure will also be available at Isle Royale National Park, 800 East Lakeshore Drive, Houghton, Michigan and by request.

FOR FURTHER INFORMATION CONTACT: Superintendent Phyllis Green, Isle Royale National Park, ISRO Wolves, 800 East Lakeshore Drive, Houghton, Michigan 49931-1896, or by telephone at (906) 482-0984.

SUPPLEMENTARY INFORMATION: Although wolves have not always been part of the Isle Royale ecosystem, they have been present for more than 65 years, and have played a key role in the ecosystem, affecting the moose population and other species during that time. The average wolf population on the island over the past 65 years has been about 22, but there have been as many as 50 wolves on the Island and as few as three. Over the past five years the population has declined steeply, which has given rise to the need to determine whether the NPS should bring additional wolves to the island. There were three wolves documented on the Island as of March 2015 and only two wolves have been confirmed as of February 2016. At this time, natural recovery of the population is unlikely. The potential absence of wolves raises concerns about possible effects to Isle Royale's current ecosystem, including effects to both the moose population and Isle Royale's forest/vegetation communities.

The NPS published a NOI to prepare an EIS and Management Plan for Moose, Wolves, and Vegetation for Isle Royale National Park on July 10, 2015, (80 FR 39796), and held scoping meetings July 27-30, 2015. However, based on the public comments we received and additional internal deliberations, the NPS has determined that it will revise and narrow the scope of this EIS to focus on the question of whether to bring wolves to Isle Royale in the near term, and if so, how to do so.

The revised purpose of the plan is to determine whether and how to bring wolves to Isle Royale to function as the apex predator in the near term within a changing and dynamic island ecosystem. The NPS will evaluate alternative approaches for bringing wolves to Isle Royale, as well as the alternative of not bringing wolves to Isle Royale (the no-action alternative), which remains a viable option. Following this evaluation and additional input from you on the EIS, an alternative will be selected for implementation and documented in a record of decision. Based on the revised purpose statement, the NPS is now considering the following alternatives.

Under Alternative A, the no-action alternative, the NPS would not intervene and would continue current management. Wolves may come and go through natural migration, although the current population of wolves may die out. Under Alternative B, the NPS would bring wolves to Isle Royale as a one-time event within a defined period of time (e.g., over a 36 month period) to increase the longevity of the wolf population on the island. This action would occur as soon as possible following a signed record of decision. Under Alternative C, the NPS would bring wolves to Isle Royale as often as needed in order to maintain a population of wolves on the island for at least the next 20 years, which is the anticipated life of the plan. The wolf population range and number of breeding pairs to be maintained on the island would be determined based on best available science and professional judgement. This action would occur as soon as possible following a signed record of decision. Under Alternative D, the NPS would not take immediate action and would continue current management, allowing natural processes to continue. One or more resource indicators and thresholds would be developed to evaluate the condition of key resources, which could include moose or vegetation-based parameters. If a threshold is met, wolves would be brought to Isle Royale as a one-time event (per alternative B) or through multiple introductions (per alternative C). The NPS will not select an alternative for implementation until after a final EIS is completed.

Given the revised scope of the EIS, actions to manage moose, such as culling or translocation of moose, as well as actions to manage vegetation, such as fire, direct restoration, or other tools, will not be considered in this EIS. After a decision is made regarding whether and how to bring wolves to Isle Royale, the NPS will monitor conditions on the island, and will initiate additional planning processes to address other aspects of the island ecosystem, such as the moose population and forest community, if such planning processes are deemed necessary.

All comments received during the scoping period that was announced in the July 2015 NOI are available online at http://parkplanning.nps.gov/ISROwolves and will be considered. If you would like to provide additional comments regarding the revised scope of the plan, you may do so through the following methods.

The preferred method for submitting comments is on the NPS PEPC Web site at http://parkplanning.nps.gov/ISROwolves. You may also mail or hand-deliver your comments to Superintendent Phyllis Green, Isle Royale National Park, ISRO Wolves, 800 East Lakeshore Drive, Houghton, Michigan 49931-1896. The NPS will consider all additional comments received or postmarked no later than 30-days from the date this NOI is published in the Federal Register. Comments submitted after that date will be considered to the extent practicable.

Comments will not be accepted by fax, email, or any other way than those specified above. Bulk comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

Cameron H. Sholly,
Regional Director, Midwest Region.

[FR Doc. 2016-13184 Filed 6-3-16; 8:45 am]

BILLING CODE 4310-MA-P